NUCLEAR REGULATORY COMMISSION

[NRC-2010-0298; Docket No. 50-346]

First Energy Nuclear Operating Company; Notice of Receipt and Availability of Application for Renewal of Davis Besse Nuclear Power Station, Unit 1, Facility Operating License No. NPF-003 for an Additional 20-Year Period

The U.S. Nuclear Regulatory Commission (NRC or Commission) has received an application, dated August 30, 2010, from FirstEnergy Nuclear Operating Company, filed pursuant to Section 104(b) of the Atomic Energy Act of 1954, as amended, and Title 10 of the Code of Federal Regulations Part 54 (10 CFR part 54), to renew the operating license for the Davis-Besse Nuclear Power Station (DBNPS), Unit 1. Renewal of the license would authorize the applicant to operate the facility for an additional 20-year period beyond the period specified in the current operating license. The current operating license for DBNPS, Unit 1, NPF-003, expires on April 17, 2017. DBNPS, Unit 1, is a Pressurized Water Reactor designed by Babcock & Wilcox that is located near Toledo, Ohio. The acceptability of the tendered application for docketing, and other matters including an opportunity to request a hearing, will be the subject of subsequent Federal Register notices.

Copies of the application are available to the public at the Commission's Public Document Room (PDR), located at One White Flint North, 11555 Rockville Pike, Rockville, Maryland 20852 or through the Internet from the NRC's Agencywide Documents Access and Management System (ADAMS) Public Electronic Reading Room under Accession Number ML102450572. The ADAMS Public Electronic Reading Room is accessible from the NRC Web site at http://www.nrc.gov/reading-rm/adams.html. In addition, the application is available at http://www.nrc.gov/reactors/operating/licensing/renewal/applications.html. Persons who do not have access to the Internet or who encounter problems in accessing the documents located in ADAMS should contact the NRC's PDR reference staff at 1-800-397-4209, extension 4737, or by e-mail to pdr@nrc.gov.

A copy of the license renewal application for the DBNPS, Unit 1, is also available to local residents near the site at the Ida Rupp Public Library, 310 Madison Street, Port Clinton, OH 43452 and the Toledo-Lucas County Public Library, 325 North Michigan Street, Toledo, OH 43604.

Dated at Rockville, Maryland this 10th day of September 2010.
For the Nuclear Regulatory Commission.
Louise Lund,
(A) Deputy Director, Division of License Renewal, Office of Nuclear Reactor Regulation.

[FR Doc. 2010-23381 Filed 9-17-10; 8:45 am]

BILLING CODE 7590-01-P